DEPARTMENT OF ENERGY

Federal Energy Regulatory Commission

[Docket No. PR05-16-000]

Grama Ridge Storage and Transportation, LLC; Notice of Petition for Rate Approval

August 12, 2005.

Take notice that on July 29, 2005, Grama Ridge Storage and Transportation, LLC (Grama) filed a petition for rate approval of market-based rates for storage and hub services pursuant to section 284.123Co)(2) of the Commission's Regulations. Grama requests that the Commission authorize Grama to continue to charge market-based rates for its storage services, as well as authorize Grama to charge market-based rates for its proposed interruptible hub services, pursuant to section 311 of the Natural Gas Policy Act of 1978.

Any person desiring to participate in this rate proceeding must file a motion to intervene or protest with the Federal Energy Regulatory Commission, 888 First Street, NE., Washington DC 20426, in accordance with Sections 385.214 or 385.211 of the Commission's Rules and Regulations. All such motions or protests must be filed with the Secretary of the Commission on or before the date as indicated below. Protests will be considered by the Commission in determining the appropriate action to be taken, but will not serve to make protestants parties to the proceedings. Any person wishing to become a party must file a motion to intervene. This petition for rate approval is available for review at the Commission in the Public Reference Room or may be viewed on the Commission's Web site at http://www.ferc.gov using the “eLibrary” link. Enter the docket number excluding the last three digits in the docket number field to access the document. For Assistance, call 1-866-208-3676 or for TTY, (202) 502-8659. Comments, protests and interventions may be filed electronically via the Internet in lieu of paper. The Commission strongly encourages electronic filings. See, 18 CFR 385.2001(1)(iii) and the instructions on the Commission's Web site under the e-Filing link.

Comment Date: 5 p.m. eastern time September 1, 2005.

Magalie R. Salas,
Secretary.

[FR Doc. E5-4527 Filed 8-18-05; 8:45 am]

BILLING CODE 6717-01-P